DEPARTMENT OF LABOR

Occupational Safety and Health Administration

29 CFR Part 1910

[Docket No. OSHA-2019-0001]

RIN 1218-AC93

Hazard Communication Standard; Corrections

Correction

§ 1910.1200 Hazard communication. [Corrected]

▪ In rule document 2026-00147, appearing on pages 562 through 598 in the issue of Thursday, January 8, 2026, make the following correction:

On page 572, below Table B.5.1, “* * * * *” should read:

(1) The critical temperature is the temperature above which a pure gas cannot be liquefied, regardless of the degree of compression.

Note: Aerosols and chemicals under pressure should not be classified as gases under pressure. See Appendix B.3 of this section.

* * * * *

[FR Doc. C1-2026-00147 Filed 2-12-26; 8:45 am]

BILLING CODE 0099-10-D